DEPARTMENT OF INTERIOR

Bureau of Land Management

[CO-13000-1220-PA; CO-15000-1220-PA]

Recreation Management; Visitor Use Restrictions for the Lower Gunnison River, Colorado

AGENCY: Bureau of Land Management, Department of Interior.

ACTION: Notice of supplementary visitor use restrictions.

SUMMARY: This order, issued under the authority of 43 CFR 8364.1(d), prohibits any campfire except when contained in stoves, grills, or firepans, and it requires visitors to pack out their trash and human waste along a river corridor in Western Colorado.

The identified public lands are in Colorado, Mesa and Delta Counties, under the management jurisdiction of the Bureau of Land Management, Grand Junction Field Office, and Uncompahgre Field Office. The river corridor includes all public lands within one-fourth of a mile on either side of the Lower Gunnison River from Delta to Grand Junction. The area is located in T. 15 S., R. 97 W., Sections 7, 8, 9, 14, 15, 16, 17, 18, 22, 23 and 24; T. 4 S., R. 3 E., Sections 19, 29, 30, 31, 32, 33 and 34; T. 14 S., R. 98 W., Sections 7, 8, 16, 17, 20, 21, 22, and 26; 6th P.M.; T. 3 S., R. 2 E., Sections 29, 30 and 33; T. 13 S., R 99 W., Sections 4, 15, 22, 26, 27 and 35; T. 2 S., R. 1 E., Sections 6, 7, 8, 16, 23, 26, 35 and 36; T. 12 S., R. 99 W. Sections 19, 29, 30 and 33; T. 12 S., R. 100 W., Sections 2, 11, 12 and 24; and T. 1 S., R. 1 W., Sections 35 and 36.

EFFECTIVE DATES: The restrictions shall be in effect year round beginning February 15, 2000 and shall remain in effect until rescinded or modified by the Authorized Officers.

SUPPLEMENTARY INFORMATION: This order implements down-river visitor use restrictions outlined in Environmental Assessment Record number CO-076-9-111, signed on September 7, 1999. The restrictions consist of:

1. Contain wood and charcoal fires within grills or firepans or use stoves. Dead and down wood or driftwood only may be gathered for campfires.

2. All overnight camping groups must possess and use a washable, reusable toilet system that allows for the carry-out and disposal of solid human body waste via an authorized sewer system that is adequate for the size of group and length of trip. All solid human body waste must be carried out of the river area. Dumping or depositing solid human body waste on Public Lands is prohibited. Vault toilets or trash receptacles at BLM administered facilities are not considered appropriate flushing sites for portable toilets. Notice of these regulations will be posted on-the-ground at the Delta, Escalante, Bridgeport, and Whitewater Launch Sites, at the Grand Junction and Uncompahgre Field Offices, and in the Lower Gunnison River brochure. Persons who may be exempted from the restrictions include federal, state, or local officers engaged in fire and emergency law enforcement activities.

PENALTIES: Violations of this restriction order are punishable by fines not to exceed $1,000 and/or imprisonment not to exceed 12 months.

FOR FURTHER INFORMATION CONTACT: Catherine Robertson, Field Manager, Grand Junction Field Office, 2815 H Road Grand Junction, Colorado 81506; (970) 244-3010; or Alan Belt, Field Manager, Uncompahgre Field Office, 2505 South Townsend, Montrose, CO 81401; (970)240-5300.

Catherine Robertson,
Grand Junction Field Manager.
Alan Belt,
Uncompahgre Field Manager.

[FR Doc. 00-3959 Filed 2-17-00; 8:45 am]

BILLING CODE 4310-JB-P